DEPARTMENT OF TRANSPORTATION

Federal Aviation Administration

Public Notice for Waiver of Aeronautical Land-Use Assurance, Southern Illinois Airport, Carbondale, Illinois

AGENCY: Federal Aviation Administration, DOT.

ACTION: Notice of intent of waiver with respect to land.

SUMMARY: The Federal Aviation Administration (FAA) is considering a proposal to change a portion of the airport (2.056 acres of Area 2 located south of Flightline Road and west of Airport Road) from aeronautical use to non-aeronautical. There are no impacts to the airport by allowing the airport to dispose of the property. Area 2 (82.969 acres) was acquired on July 20, 1948, under FAA Project Number 9-11-021-5701. In accordance with section 47107(h) of Title 49, United States Code, this notice is required to be published in the Federal Register 30 days before modifying the land-use assurance that requires the property to be used for an aeronautical purpose. The portion of Area 2 (Parcels 1A and 2A, a total of 2.056 acres) released will be exchanged for Parcel 5, 9.076 acres adjacent to Area 2 and owned by the Southern Illinois University. Parcels 1A and 2A will be used by Southern Illinois University for the expansion of the University's aviation school at the Southern Illinois Airport.

DATES: Comments must be received on or before December 22, 2000.

FOR FURTHER INFORMATION CONTACT: Dennis Rewerts, Program Manager, 2300 East Devon Avenue, Des Plaines, IL 60018. Telephone Number 847-294-7195/FAX Number 847-294-7046. Documents reflecting this FAA action may be reviewed at this same location or at Southern Illinois Airport, Carbondale, Illinois.

SUPPLEMENTARY INFORMATION: This notice announces that the FAA intends to authorize the exchange of the subject airport property at Southern Illinois Airport, Carbondale, Illinois. Approval does not constitute a commitment by the FAA to financial assist in the exchange of the subject airport property nor a determination that all measures covered by the program are eligible for grant-in-aid funding from the FAA. The exchange of the airport property will be in accordance FAA's Policy and Procedures Concerning the Use of Airport Revenue, published in the Federal Register on February 16, 1999.

Issued in Des Plaines, Illinois, October 15, 2000.
Philip M. Smithmeyer,
Manager, Chicago Airports District Office, FAA, Great Lakes Region.

[FR Doc. 00-29913 Filed 11-21-00; 8:45 am]

BILLING CODE 4910-13-M